DEPARTMENT OF HEALTH AND HUMAN SERVICES

45 CFR Part 18

Official Symbol, Logo, and Seal

AGENCY: Office of the Secretary, HHS.

ACTION: Direct final rule.

SUMMARY: The U.S. Department of Health and Human Services (HHS) published a direct final rule in the Federal Register on April 14, 2014, that would have adopted requirements on the use of HHS's official logo and seal. HHS stated in the direct final rule that if it received a significant adverse comment, HHS would publish a notice of withdrawal. HHS received two comments and considers at least one of these comments a significant adverse comment. The direct final rule was not withdrawn prior to its effective date. As a result, HHS is now publishing this removal of the direct final rule.

DATES: Effective June 4, 2014.

FOR FURTHER INFORMATION CONTACT: Gloria Barnes, Office of the Assistant Secretary for Public Affairs (gloria.barnes@hhs.gov).

SUPPLEMENTARY INFORMATION: The U.S. Department of Health and Human Services (HHS) published a direct final rule in the Federal Register on April 14, 2014 (79 FR 20801) that would have adopted requirements on the use of HHS's official logo and seal. HHS stated in the direct final rule that if any significant adverse comment were received, HHS would publish a notice of withdrawal. HHS received two comments and considers at least one of these comments a significant adverse comment.

Due to time constraints, a notice of withdrawal was not published prior to the direct final rule going into effect. As a result, HHS is now publishing this removal of the direct final rule, deleting Part 18 from Title 45, Subtitle A, subchapter A of the Code of Federal Regulations. HHS believes that it is appropriate for this removal to become effective on the date of its publication, and that notice and comment in this instance is unnecessary.

Executive Order No. 12866

This rule does not meet the criteria for a significant regulatory action under Executive Order 12866. Thus, review by the Office of Management and Budget is not required.

Regulatory Flexibility Act

This rule will not have a significant economic impact on a substantial number of small entities. Therefore, a regulatory flexibility analysis as provided by the Regulatory Flexibility Act, as amended, is not required.

List of Subjects in 45 CFR Part 18

Administrative practice and procedure, Logo and seal.

For the reasons set out in the preamble, and under the authority of 42 U.S.C. 3505 and 5 U.S.C. 301, HHS removes Part 18 to Title 45, Subtitle A, subchapter A of the Code of Federal Regulations.

PART 18—[REMOVED]

Dated: May 27, 2014.
Kathleen Sebelius,
Secretary.

[FR Doc. 2014-12852 Filed 6-3-14; 8:45 am]

BILLING CODE 4150-04-P